INTERNATIONAL TRADE COMMISSION

[Investigation No. 337-TA-666]

In the Matter of Certain Cold Cathode Fluorescent Lamp (“CCFL”) Inverter Circuits and Products Containing the Same; Notice of Commission Final Determination of No Violation of Section 337; Termination of Investigation

AGENCY: U.S. International Trade Commission.

ACTION: Notice.

SUMMARY: Notice is hereby given that the U.S. International Trade Commission has determined to review portions of the final initial determination (“ID”) issued by the presiding administrative law judge (“ALJ”) on April 19, 2010, and to affirm the final ID's finding of no violation of section 337 on modified grounds. The above-captioned investigation is terminated.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 14, 2009, based on a complaint filed by O2 Micro International, Ltd. of the Cayman Islands and O2 Micro, Inc. of Santa Clara, California. 74 FR 2099. The complaint alleges violations of section 337 of the Tariff Act of 1930 (19 U.S.C. 1337) in the importation into the United States, the sale for importation, and the sale within the United States after importation of certain cold cathode fluorescent lamp inverter circuits and products containing the same by reason of infringement of various U.S. patents. The complaint names ten respondents, including Monolithic Power Systems Inc. of San Jose, California (“MPS”); Microsemi Corporation of Irvine, California (“Microsemi”); ASUSTeK Computer Inc. of Taipei, Taiwan and ASUS Computer International America of Fremont, California (collectively, “ASUS”).

On April 19, 2010, the ALJ issued his final ID finding no violation of section 337 in the importation into the United States, the sale for importation, and the sale within the United States after importation of CCFL inverter circuits and products containing the same by reason of infringement of U.S. Patent 7,417,382 (“the `382 patent”). The Commission investigative attorney (“IA”), complainant O2 Micro, respondents MPS and ASUS, and respondent Microsemi each filed petitions for review of the ID on May 3, 2010. The IA, O2 Micro, respondents MPS and ASUS, and respondent Microsemi each filed responses to the petitions for review on May 11, 2010.

Having examined the record of this investigation, including the ALJ's final ID, the petitions for review, and the responses thereto, the Commission has determined to review the final ID in part. In particular, the Commission has determined to review (1) the ID's findings that the LX1691 and LX1693 Microsemi products infringe the asserted claims of the `382 patent, and (2) the ID's finding that O2 Micro has not satisfied the domestic industry requirement.

Upon review, the Commission has determined to (1) reverse the ALJ's findings that the LX1691 and LX1693 Microsemi products infringe the asserted claims of the `382 patent, and (2) reverse the ALJ's determination that O2 Micro has not satisfied the domestic industry requirement. The Commission has determined that neither MPS, ASUS, nor Microsemi have violated section 337, and has terminated the investigation. A Commission opinion will issue shortly.

The authority for the Commission's determination is contained in section 337 of the Tariff Act of 1930, as amended (19 U.S.C. 1337), and in sections 210.42-50 of the Commission's Rules of Practice and Procedure (19 CFR 210.42-50).

Issued: June 18, 2010.
By order of the Commission.
Marilyn R. Abbott,
Secretary to the Commission.

[FR Doc. 2010-15266 Filed 6-23-10; 8:45 am]

BILLING CODE 7020-02-P